FEDERAL COMMUNICATIONS COMMISSION

[FR ID: 203613]

Privacy Act of 1974; System of Records

AGENCY: Federal Communications Commission.

ACTION: Rescindment of a system of records notice.

SUMMARY: Pursuant to the Privacy Act of 1974 and Office of Management and Budget (OMB) Circular No. A-108, the Federal Communications Commission (FCC) proposes to rescind the FCC/OMD-7, FCC Transit Benefit and Parking Permit Programs, system of records. The FCC previously used information in this system to administer the transit benefit and parking permit programs for FCC employees. This information enabled the FCC to facilitate the timely processing of requests for parking permits, transit benefit subsidies, and other commuting arrangements, and related program, policies, and activities.

DATES: The rescindment will become effective 30 days after publication.

ADDRESSES: Comments can be submitted to Privacy@fcc.gov.

FOR FURTHER INFORMATION CONTACT: For further information please contact Brendan McTaggart at 202-418-1738 or Privacy@fcc.gov.

SUPPLEMENTARY INFORMATION: The Privacy Act provides that an agency may collect or maintain in its records only information about individuals that is relevant and necessary to accomplish a purpose that is required by a statute or executive order. The FCC has determined that the FCC/OMD-7, FCC Transit Benefit and Parking Permit Programs, system of records no longer meets this standard, because the FCC no longer administers the transit benefit and parking permit programs. The FCC transferred its transit subsidy program to the Department of Transportation's TRANServe program in 2018. All transit subsidy information has been deleted in accordance with National Archives and Records Administration (NARA) General Records Schedule (GRS) 2.4, Employee Compensation and Benefits Records (DAA-GRS-2016-0015-0017 and DAA-GRS-2016-0015-0018). The FCC transferred administration of the parking permit program to a private vendor in August 2023 and no longer maintains any records related to FCC employee parking. FCC-issued parking permits and related records have been destroyed in accordance with NARA GRS 5.6, Security Management Records (DAA-GRS-2021-0001-0006). Therefore, the FCC proposes to rescind FCC/OMD-7, FCC Transit Benefit and Parking Permit Programs.

SYSTEM NAME AND NUMBER:

FCC/OMD-7, FCC Transit Benefit and Parking Permit Programs.

HISTORY:

81 FR 16176 (March 25, 2016).

Marlene Dortch,
Secretary.

[FR Doc. 2024-03534 Filed 2-21-24; 8:45 am]

BILLING CODE 6712-01-P